DEPARTMENT OF DEFENSE

Department of the Air Force

Announcement of IS-GPS-200E Interface Control Working Group (ICWG) Teleconference Meeting

AGENCY: Department of the Air Force, DoD.

ACTION: Teleconference meeting notice.

SUMMARY: This notice informs the public that the Global Positioning Systems Wing will be hosting an Interface Control Working Group (ICWG) teleconference meeting for the document IS-GPS-200E (NAVSTAR GPS Space Segment/Navigation User Interfaces). The meeting will address comments received on L2 Phase Relationships after the last Public ICWG on 29 September 2009.

The ICWG Teleconference is open to the general public. Dial-in information is provided below. More information, including Comments Resolution Matrixes (CRMs) and track changed documents, will be posted at: http://www.losangeles.af.mil/library/factsheets/factsheet.asp?id=9364.

Please send all CRM comments to Vimal Gopal by 5 February 2010.

DATES: 12 February 2010: IS-GPS-200E. 8 a.m.-12 p.m. (Pacific Time).

Dial-In Information: Phone: 1-800-FON-SAIC (1-800-366-7242).

Code: 4511074.

FOR FURTHER INFORMATION CONTACT: Vimal Gopal, vimal.gopal.ctr@losangeles.af.mil, 1-310-909-7294 or Captain Neal Roach, neal.roach@losangeles.af.mil, 1-310-653-3771.

Bao-Anh Trinh,
Air Force Federal Register Liaison Officer.

[FR Doc. 2010-1273 Filed 1-22-10; 8:45 am]

BILLING CODE 5001-05-P